DEPARTMENT OF JUSTICE

Parole Commisson

Notice of Meeting; Sunshine Act

Public Announcement: Pursuant to the Government in the Sunshine Act (Pub. L. 94-409) [5 U.S.C. 552b].

Agency Holding Meeting: Department of Justice, United States Parole Commission.

Date and Time: 11:30 a.m., Thursday, March 30, 2006.

Place: U.S. Parole Commission, 5550 Friendship Boulevard, 4th Floor, Chevy Chase, Maryland 20815.

Status: Closed meeting.

Matters Considered: The following matters will be considered during the closed portion of the Commission's Business Meeting:

Petitions for reconsideration involving two original jurisdiction cases pursuant to 28 CFR 2.27.

Agency Contact: Thomas W. Hutchison, Chief of Staff, United States Parole Commission, (301) 492-5990.

Dated: March 23, 2006.
Rockne Chickinell,
General Counsel, U.S. Parole Commission.

[FR Doc. 06-3020 Filed 3-24-06; 12:23 pm]

BILLING CODE 4410-31-M